DEPARTMENT OF JUSTICE

Notice of Lodging of Proposed Consent Decree Under the Comprehensive Environmental Response, Compensation, and Liability Act (“CERCLA”)

On September 28, 2020, the Department of Justice lodged a proposed consent decree with the United States District Court for the District of New Jersey in the lawsuit entitled United States of America, New Jersey Department of Environmental Protection, and Administrator of the New Jersey Spill Compensation Fund v. Hercules LLC, Civil Action No. 1:20-cv-13377.

The United States seeks performance of a remedial design/remedial action and reimbursement of response costs under Sections 106 and 107 of the Comprehensive Environmental Response, Compensation, and Liability Act (“CERCLA”) concerning Operable Units 1 and 2 (“OU1” and “OU2,” respectively) of the Hercules, Inc. Superfund Site (“Site”), located in Gibbstown, New Jersey. The New Jersey Department of Environmental Protection and the Administrator of the New Jersey Spill Compensation Fund (collectively, “NJDEP”) are co-plaintiffs.

Under the proposed consent decree, Hercules LLC (“Hercules”) agrees to perform the remedial action for OU1 and OU2 that is identified in the United States Environmental Protection Agency's (“EPA”) Record of Decision relating to the Site, dated September 25, 2018. The proposed consent decree requires Hercules to fully reimburse the United States for $143,943 in past response costs and to pay New Jersey's past response costs of approximately $129,036. The proposed consent decree also requires Hercules to reimburse the United States and New Jersey for their future Site-related response costs.

The publication of this notice opens a period for public comment on the proposed consent decree. Comments should be addressed to the Assistant Attorney General, Environment and Natural Resources Division, Environmental Enforcement Section, and should refer to United States of America, New Jersey Department of Environmental Protection, and Administrator of the New Jersey Spill Compensation Fund v. Hercules LLC, Civil Action No. 1:20-cv-13377, D.J. Ref. No. 90-11-3-12075. All comments must be submitted no later than sixty (60) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $76.50 (25 cents per page reproduction cost) payable to the United States Treasury.

Henry S. Friedman,
Assistant Section Chief, Environmental Enforcement Section, Environment and Natural Resources Division.

[FR Doc. 2020-21740 Filed 9-30-20; 8:45 am]

BILLING CODE 4410-15-P